DEPARTMENT OF AGRICULTURE

Office of the Secretary

[Docket No. 00-001-1]

Declaration of Extraordinary Emergency Because of Plum Pox Virus

An exotic plant virus, plum pox virus, has been detected in the United States. The disease was detected in Pennsylvania and had not previously been detected in the United States.

Plum pox virus is the cause of an extremely serious plant disease, affecting a number of Prunus species, including peach, nectarine, apricot, plum, and almond. Infection eventually results in severely reduced fruit production, and the fruit that is produced is often misshapen and blemished. There is no cure or treatment for the disease once a tree becomes infected. In Europe, where plum pox has been present for a number of years, the disease is considered to be the most serious disease affecting susceptible Prunus species. The disease is spread over short distances by a number of different aphid species, and over longer distances through the movement of infected budwood and nursery stock. The strain of virus now present in the United States is known not to be seed-transmitted.

If plum pox is allowed to become established and to spread, the overall crop loss and impact on quality could be significant. The estimated annual value of stone fruit at the farm gate for the entire United States is at least $1.8 billion. If steps are not taken to eradicate plum pox in the very limited area in Pennsylvania where it is now known to be present, there is every possibility the disease will eventually spread to other areas in the United States where host crops are produced. This would result in substantial losses to producers of these important fruit crops, and to those industries that transport, process, or otherwise utilize this fruit. Consumers would also be affected by a reduction in the quantity and quality of fruit available, and by increased prices.

There are three components to controlling and eradicating plum pox: (1) A regulatory program to prevent the movement of plant material infected with plum pox virus from the area where it is now known to be present to other areas where the host plants are likely to be present; (2) a survey program adequate to detect any additional infestations of plum pox virus that may be present; and (3) a control program to remove all infested orchards. Initial action was taken by the Pennsylvania Department of Agriculture (PDA). The PDA has instituted a quarantine that encompasses the two townships that include the area where plum pox virus is now known to be present. The Animal and Plant Health Inspection Service of the United States Department of Agriculture (the Department) intends to establish a parallel Federal quarantine of this area.

It is essential to the control and eradication of the plum pox virus that orchards known to be infested be removed promptly, along with any additional orchards that are determined to be infested in surveys to be conducted this spring. The Department has reviewed the measures being taken by Pennsylvania to survey, regulate, and control plum pox virus and has consulted with the Governor of Pennsylvania. Based on such review and consultation, the Department has determined that Pennsylvania does not have authority or funds to compensate growers for the removal of infested orchards. Without such funds, it will be unlikely to achieve expeditious removal of the orchards.

The infestation of plum pox virus represents a threat to U.S. stone fruit crops. It constitutes a real danger to the national economy and a potential serious burden on interstate and foreign commerce. Therefore, the Department has determined that an extraordinary emergency exists because of the existence of plum pox virus in Pennsylvania.

In accordance with 7 U.S.C. 150dd, this declaration of extraordinary emergency authorizes the Secretary to: (1) Seize, quarantine, treat, apply other remedial measures to, destroy, or otherwise dispose of, in such manner as the Secretary deems appropriate, any product or article of any character whatsoever, including means of conveyance, that the Secretary has reason to believe is infected by or contains the plum pox virus; and (2) quarantine, treat, or apply other remedial measures to, in such manner as the Secretary deems appropriate, any premises, including articles on such premises, that the Secretary has reason to believe are infected by or contaminated by the plum pox virus. The Governor of Pennsylvania has been informed of these facts.

EFFECTIVE DATE: This declaration of extraordinary emergency shall become effective January 20 , 2000.

Dan Glickman,
Secretary of Agriculture.

[FR Doc. 00-4988 Filed 3-1-00; 8:45 am]

BILLING CODE 3410-34-P